DEPARTMENT OF THE INTERIOR

Bureau of Land Management

[16X L1109AF LLUT980300-L11100000.XZ0000-24-1A]

2016 Second Call for Nominations for Utah Resource Advisory Council

AGENCY: Bureau of Land Management, Interior.

ACTION: Notice.

SUMMARY: The purpose of this notice is to request a second call for nominations for five open positions on the Bureau of Land Management (BLM) Utah Resource Advisory Council (RAC) because we did not receive a sufficient number of applications from the first call for nominations. The RAC provides advice and recommendations to the BLM on land use planning and management of the National System of Public Lands within their geographic areas. The BLM will accept public nominations for 30 days after the publication of this notice.

DATES: All nominations must be received no later than September 26, 2016.

ADDRESSES: Lola Bird, Public Affairs Specialist, Bureau of Land Management, Utah State Office, 440 West 200 South, Suite 500, Salt Lake City, Utah 84101.

FOR FURTHER INFORMATION CONTACT: Lola Bird, Public Affairs Specialist, Bureau of Land Management Utah State Office, 440 West 200 South, Suite 500, Salt Lake City, Utah 84101; by telephone (801) 539-4033 or by email: lbird@blm.gov. Persons who use a telecommunications device for the deaf (TDD) may call the Federal Information Relay Service (FIRS) at 1-800-877-8339 to leave a message or question for the above individual. The FIRS is available 24 hours a day, 7 days a week. Replies are provided during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Two positions in Category One—Public land ranchers and representatives of organizations associated with energy and mineral development, the timber industry, transportation or rights-of-way, off-highway vehicle use, and commercial recreation.

Two positions in Category Two—Representatives of nationally or regionally recognized environmental organizations, archaeological and historical organizations, dispersed recreation activities, and wild horse and burro organizations.

One position in Category Three—Representatives of state, county, or local elected office; representatives and employees of a state agency responsible for the management of natural resources; representatives of Indian Tribes within or adjacent to the area for which the RAC is organized; representatives and employees of academic institutions who are involved in natural sciences; and the public-at-large.

Individuals may nominate themselves or others to serve on an advisory council. Nominees, who must be residents of the state or states where the RAC has jurisdiction, will be judged on the basis of their training, education, and knowledge of the council's geographical area. Nominees should also demonstrate a commitment to consensus building and collaborative decision-making. Individuals who are Federally-registered lobbyists are ineligible to serve on all FACA and non-FACA boards, committees, or councils in an individual capacity. The term “individual capacity” refers to individuals who are appointed to exercise their own individual best judgment on behalf of the government, such as when they are designated Special Government Employees, rather than being appointed to represent a particular interest. All nominations must be accompanied by letters of reference from any represented interests or organizations, a completed RAC application, and any other information that speaks to the nominee's qualifications.

Those who have already submitted a nomination in response to the first call for nominations (published in the Federal Register, 81 FR 14879, March 18, 2016) do not need to resubmit. All nominations from the first and second calls will be considered together during the review process.

The BLM-Utah will consult with the Governor's office before forwarding its recommendations to the Secretary of the Interior for a final decision.

Simultaneous with this notice, BLM-Utah will issue a press release providing additional information for submitting nominations.

Authority: 43 CFR 1784.4-1.

Jenna Whitlock,
Acting State Director.

[FR Doc. 2016-20551 Filed 8-25-16; 8:45 am]

BILLING CODE 4310-DQ-P